DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 30120-30121, dated May 25, 2005) is amended to reflect the establishment of the Office of Workforce and Career Development within the Office of the Director, Centers for Disease Control and Prevention.

Section C-B, Organization and Functions, is hereby amended as follows:

After the mission statement for the Office of the Chief Science Officer (CAS), insert the following:

Office of Workforce and Career Development (CAL). The mission of the Office of Workforce and Career Development (OWCD) is to improve health outcomes by ensuring a competent and sustainable workforce through excellence and innovation in workforce and career development. In carrying out its mission, OWCD: (1) Develops goals and objectives, and provides leadership, policy formation, scientific oversight, and guidance in program planning and development; (2) plans, directs, and manages CDC-wide training programs, and internship and fellowship programs; (3) provides consultation, technical assistance, and training on epidemiology, public health informatics, and prevention effectiveness to CDC/ATSDR, states, other agencies, other countries, and domestic and international organizations; (4) develops, designs, and implements an accredited comprehensive strategic human resource leadership development and career management program for all occupational series throughout CDC; organizational development, career management, employee development, and training; (5) maximizes economies of scale through systematic planning and evaluation of agency-wide training initiatives to assist CDC employees in achieving required competencies; (6) assists in the definition and analysis of training needs of public health workers, and develops and evaluates instructional products designed to meet those needs; (7) works with partners, internally and externally, to develop a strategic vision for the public health workforce; (8) collaborates with the Office of Strategy and Innovation (OSI) to develop workforce goals for all of CDC/ATSDR; (9) coordinates the Excellence in Learning Council to coordinate, inform, and share strategic vision for all of CDC's Coordinating Centers/Coordinating Offices (CC/CO); (10) conducts internal succession planning, forecasting services, and environmental scanning to ascertain both current and future public health workforce needs; and (11) in carrying out the above functions, collaborates, as appropriate, with the CDC Office of the Director, CDC CC/COs, domestic and international agencies and organizations.

Office of the Director (CAL1). (1) Provides leadership and overall direction for OWCD; (2) develops goal and objectives, and provides leadership, policy formation, scientific oversight, and guidance in program planning and development; (3) plans, coordinates, and develops research plans for OWCD; (4) provides scientific leadership OWCD research-related activities; (5) ensures adherence to CDC and HHS science-related policies, e.g., ethical conduct of research, information security, extramural research, data sharing; and responds to allegations of scientific misconduct; (6) provides training related to scientific policies; (7) ensures quality of scientific products developed by OWCD staff; (8) oversees and manages OWCD clearance process for scientific and technical documents; (9) oversees and manages OWCD Institutional Review Board-related activities and procedures; (10) develops policies governing OWCD's internal and external partnership activities; (11) coordinates all program reviews including all written and visual materials; (12) reviews, prepares, and coordinates legislation, Congressional testimony, and briefing materials; (13) develops proposed legislation, analyze bills, and provides for other legislative-related activities; (14) plans and prepares OWCD promotional and marketing materials; and (15) in carrying out the above functions, collaborates, as appropriate, with the CDC Office of the Director, CDC CC/COs, domestic and international agencies and organizations.

Management and Operations Activity (CAL13). (1) Provides leadership, oversight, and guidance in the management and operations of OWCD's programs; (2) plans, coordinates, and provides administrative management support, advice, and guidance to OWCD, involving the areas of fiscal management, personnel, travel, and other administrative services; (3) coordinates the development of the OWCD annual budget submission; (4) directs and coordinates the activities of the office; (5) conducts management analyses of OWCD programs and staff to ensure optimal utilization of resources and accomplishment of program objectives; (6) plans, allocates, and monitors OWCD resources; (7) maintains liaison and collaborates with other CDC components and external organizations in support of OWCD management and operations; (8) works closely with other federal agencies involved with OWCD interagency agreements; (9) provides fiscal management and stewardship of grants, contracts, and cooperative agreements; (10) develops and implements administrative policies, procedures, and operations, as appropriate for OWCD, and prepares special reports and studies, as required, in the administrative management areas; (11) provides coordinated services to OWCD for all conference/meeting management; (12) coordinates OWCD requirements relating to contracts, grants, cooperative agreements, reimbursable agreements, procurement, and materiel management; and (13) in carrying out the above functions, collaborates, as appropriate, with the CDC Office of the Director, CDC CC/COs, domestic and international agencies and organizations.

Strategic Workforce Activity (CAL14). (1) Develops strategic vision for training for CDC/ATSDR; (2) works with partners, internally and externally, to develop a strategic vision/plan for the public health workforce; (3) collaborates with the OSI to develop workforce goals for all of CDC/ATSDR; (4) co-chairs the Excellence in Learning Council to coordinate, inform, and share strategic vision for all of CDC's CC/COs; (5) works with the Excellence in Learning Council to develop and standardize learning policies for CDC/ATSDR; (6) conducts environmental scanning to ascertain both current and future public health workforce needs, and establishes priorities for the public health workforce based on the scanning; (7) provides forecasting services to anticipate the workforce needs; (8) determines the distribution and impact of best practices; (9) develops strategic plan for workout development at CDC and establishes system(s) for monitoring implementation and impact of this plan; (10) works with Atlanta Human Resources Center and the Office of the Chief Operating Officer (OCOO) to develop particular elements for strategic planning of internal succession planning, workforce retention, targeted recruitment, and change management; (11) oversees development and implementation of demonstration projects in the best practices for workforce development and assures dissemination of results of these projects; (12) establishes policies governing major learning initiatives, and new learning or partnership activities; (13) works collaboratively within the OWCD, and with CDC's Office of the Director, the Financial Management Office, the OCOO, and other components of CDC in planning, developing, and implementing policies related to training initiatives, including but not limited to, Individual Learning Accounts, Individual Development Plans, and loan repayment programs; (14) provides oversight or serves as a primary liaison for contracts relating to OWCD policy and partnership activities; (15) provides leadership, advocacy, and coordination of learning policies and partnership development activities; and (16) in carrying out the above functions, collaborates, as appropriate, with the CDC Office of the Director, CDC CC/COs, domestic and international agencies and organizations.

Career Development Division (CALC). (1) Plans, directs, and manages CDC-wide competency-based training and service programs, including the Epidemic Intelligence Service, the Preventive Medicine Residency, Public Health Informatics Fellowship, Prevention Effectiveness Fellowship, the CDC Experience, the Knight Journalism Fellowship, and the Public Health Prevention Service (PHPS) programs, as well as various internship and fellowship programs, developing new programs as strategically indicated; (2) develops and maintains standards, criteria, and core competencies for fellowship programs across the agency, ensuring scientific rigor and consistency with adult learning principles; (3) provides consultation, technical assistance, and training on epidemiology, public health informatics, and prevention effectiveness to CDC/ATSDR, states, other agencies, other countries, and domestic and international organizations; (4) provides epidemiologic, informatics, decision analysis, and health economics assistance to states, other agencies, and other countries through the field assignment of fellows; (5) assumes an active national and international leadership role in applied public health training and competency development for the disciplines of epidemiology, informatic, health economics, and decision sciences; (6) evaluates programs to ensure training is relevant and responsive to needs of fellows and health agencies; (7) develops and maintains a strategic plan for recruitment in accordance with the CDC workforce diversity goals; (8) evaluates performance and monitors the completion of program requirements by fellows; (9) receives, coordinates, and approves, as appropriate, requests for epidemiologic assistance (EPI-AIDs) and the expenditures of funds; (10) establishes capacity in the public health community to conduct and use epidemiologic, economic and decision analysis, and public health informatics; (11) provides and maintains leadership in the development, acquisition application, and evaluation of economic and decision science, and informatics methods for use in public health; (12) provides technical assistance in the area of economics and economics workforce development throughout CDC and other organizations; (13) disseminates economic and decision analysis, informatics, and preventive medicine training materials used in programs for adaptation and use by the health workforce; and (14) in carrying out the above functions, collaborates, as appropriate, with the CDC Office of the Director, CDC CC/COs, domestic and international agencies and organizations.

Training and Curriculum Services Division (CALD). (1) Develops, designs, and implements a comprehensive strategic human resource leadership development and career management program for all occupational series throughout CDC; (2) develops and implements training strategies and activities that contribute to the agency's mission, accomplishments, and organizational performance; (3) maintains employee training records; (4) develops and administers intern and professional development programs, the long-term training program, and the mentoring program; (5) conducts comprehensive training needs assessment of CDC employees nationwide; (6) manages the classroom facilities including establishing policy and scheduling room usage; (7) provides analysis and data to correlate individual training with corporate strategic plans; (8) develops and maintains assessment tools to identify core competency requirements for each occupational series throughout the agency; (9) provides consultation, guidance, and technical assistance to managers and employees in organizational development, career management, employee development, and training; (10) develops and delivers educational programming to meet the identified needs of the public health workforce; (11) promotes, develops, and implements training needs assessment methodology to establish priorities for training interventions; (12) evaluates the efficiency and effectiveness of education/training needs assessments, development of training tools, implementation methods, and the impact of education/training on the quality of laboratory practice; (13) designs, produces, and delivers informational and instructional products; (14) registers participants of laboratory and public health courses offered by CDC; (15) maximizes economies of scale through systematic planning and evaluation of agency-wide training initiatives to assist CDC employees in achieving required competencies; (16) implements and monitors the CDC Training Management System (Learning Management System) for compliance with the Government Employees Training Act; (17) assists in the definition and analysis of training needs of public health workers, and develops and evaluates instructional products designed to meet those needs; (18) develops and maintains continuing education unit accreditation; (19) designs, produces and delivers a variety of visual materials and instructional products; (20) develops and conducts training to facilitate the timely transfer of newly emerging laboratory technology and standards for laboratory practice; (21) provides technical assistance, consultation, and training for trainers to improve the capacity of regional organizations and state health agencies to develop and maintain decentralized training networks for laboratory professionals; (22) fosters communications to assist regional, state, and local health agencies in the identification and utilization of laboratory resources in support of the Nation's health objectives; (23) provides technical assistance and consultation for programs at the national, state, regional and international levels to develop the leadership and management competencies of current and emerging public health officials, including, but not limited to, the National Public Health Leadership Institute and the Management Academy for Public Health; and (24) in carrying out the above functions, collaborates, as appropriate, with the CDC Office of the Director, CDC CC/COs, domestic and international agencies and organizations.

Dated: June 3, 2005.
William H. Gimson,
Chief Operating Officer, Centers for Disease Control and Prevention (CDC).

[FR Doc. 05-11795 Filed 6-14-05; 8:45 am]

BILLING CODE 4160-18-M